THE NATIONAL FOUNDATION FOR THE ARTS AND THE HUMANITIES

Notice of Proposed Information Collection: IMLS Digital Collections and Content: Opening History of Evaluation

AGENCY: Institute of Museum and Library Services, National Foundation for the Arts and the Humanities.

ACTION: Notice, request for comments, collection of information.

SUMMARY: The Institute of Museum and Library Services (IMLS), as part of its continuing effort to reduce paperwork and respondent burden, conducts a preclearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed evaluation that would collect information to assess the usefulness to reference-service providers in museums and libraries of the IMLS Digital Collections and Content project's Opening History resource.

A copy of the proposed information collection request can be obtained by contacting the individual listed below in the ADDRESSES section of this notice.

DATES: Written comments must be submitted to the office listed in the addressee section below on or before July 5, 2010. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Kim Miller, Management Analyst, Institute of Museum and Library Services, 1800 M St., NW., Washington, DC 20036. Telephone: 202-653-4762, Fax: 202-653-4600 or by e-mail at kmiller@imls.gov.

SUPPLEMENTARY INFORMATION: The purpose of the information collection is to continue the development of the Institute of Museum and Library Services' Digital Collections and Content (DCC) project, which has created two publicly available portals to digital collections hosted at institutions across the country: (1) IMLS DCC, a publicly available registry of IMLS National Leadership Grant (NLG) and Library Services and Technology Act (LSTA) digital collections and a repository of item-level metadata available from these collections; and (2) Opening History, a publicly available registry of digital U.S. History collections from cultural heritage institutions and a repository of item-level metadata from these collections. The DCC, which is available to the public via the Internet, provides important information about and access to the digital collections funded through IMLS grant programs. Opening History, also available to the public via the Internet, provides possibly the largest aggregation of digital collections focusing on U.S. History. The proposed information collection, which is the subject of this notice, would collect information to assess the usefulness to reference-service providers in museums and libraries of the IMLS DCC Opening History resource.

Agency: Institute of Museum and Library Services.

Title: IMLS Digital Collections and Content Opening History Evaluation

OMB Number: To be determined.

Agency Number: 3137.

Frequency: One-time survey of no more than 450 reference-service providers.

Affected Public: General public, libraries, museums.

Number of Respondents: To be determined.

Estimated Time per Respondent: To be determined.

Total Annualized Capital/Startup Costs: To be determined

Total Costs: To be determined.

FOR FURTHER INFORMATION CONTACT: Chuck Thomas, Senior Program Officer, Institute of Museum and Library Services, 1800 M Street NW., 9th Floor, Washington, DC 20036. Telephone: 202/653-4663. E-mail: cthomas@imls.gov.

Dated: May 5, 2010.
Kim A. Miller,
Management Analyst, Institute of Museum & Library Services.

[FR Doc. 2010-11027 Filed 5-10-10; 8:45 am]

BILLING CODE 7036-01-P